NUCLEAR REGULATORY COMMISSION

[NRC-2014-0016]

Biweekly Notice; Applications and Amendments to Facility Operating Licenses and Combined Licenses Involving No Significant Hazards Considerations

Background

Pursuant to Section 189a.(2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from January 9, 2014, to January 22, 2014. The last biweekly notice was published on January 21, 2014 (79 FR 3412).

ADDRESSES: You may submit comments by any of the following methods (unless this document describes a different method for submitting comments on a specific subject):

• Federal Rulemaking Web site: Go to http://www.regulations.gov and search for Docket ID NRC-2014-0016. Address questions about NRC dockets to Carol Gallagher; telephone: 301-287-3422; email: Carol.Gallagher@nrc.gov.

• Mail comments to: Cindy Bladey, Chief, Rules, Announcements, and Directives Branch (RADB), Office of Administration, Mail Stop: 3WFN-06-44M, U.S. Nuclear Regulatory Commission, Washington, DC 20555-0001.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2014-0016 when contacting the NRC about the availability of information regarding this document. You may access publicly-available information related to this action by the following methods:

• Federal Rulemaking Web site: Go to http://www.regulations.gov and search for Docket ID NRC-2014-0016.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2014-0016 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated, or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's public Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC's guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's public Web site at http://www.nrc.gov/site-help/e-submittals.html, by email to MSHD.Resource@nrc.gov, or by a toll-free call at 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Arizona Public Service Company, et al., Docket Nos. 50-528, 50-529, and 50-530, Palo Verde Nuclear Generating Station, Units 1, 2, and 3, Maricopa County, Arizona.

Date of amendment request: September 27, 2013.

Description of amendment request: The amendment would revise Technical Specification (TS) 3.3.3, “Control Element Assembly Calculators (CEACS),” to reinstate an inadvertently omitted 4-hour completion time to Required Action B.2.2. Additionally, the amendment would revise a test frequency note within a Surveillance Requirement (SR) under TS 3.3.6, “Engineered Safety Features Actuation System (ESFAS) Logic and Manual Trip,” which should have been addressed in the license amendment request for Technical Specifications Task Force (TSTF) change traveler TSTF-425, “Relocate Surveillance Frequencies to Licensee Control—RITSTF [Risk-Informed TSTF] Initiative 5b.”

Basis for proposed no significant hazards consideration determination: As required by 10 CFR 50.91(a), the licensee has provided its analysis of the issue of no significant hazards consideration, which is presented below:

1. Does the proposed amendment involve a significant increase in the probability or consequences of an accident previously evaluated?

Response: No.

The reinstatement of the 4-hour completion time within TS 3.3.3 does not alter existing controls on plant operation (i.e., safety limit values, [Limiting Conditions for Operation (LCOs)], Surveillance Requirements or Design Features). Functions which are necessary to operate the facility safely and in accordance with the operating licenses remain in effect. The proposed change will not affect the operation of structures, systems, or components, and will not reduce programmatic controls such that the plant safety would be affected.

The revision to the SR testing frequency note under TS 3.3.6 relocates the specified frequency to licensee control under the Surveillance Frequency Control Program (SFCP). Surveillance frequencies are not an initiator to any accident previously evaluated. As a result, the probability of any accident previously evaluated is not significantly increased. The systems and components required by the technical specifications for which this frequency is being relocated are still required to be operable, meet the acceptance criteria for the surveillance requirement, and be capable of performing any mitigation function assumed in the accident analysis.

Based on the above, the proposed amendment does not involve a significant increase in the probability or consequences of an accident previously evaluated.

2. Does the proposed amendment create the possibility of a new or different kind of accident from any accident previously evaluated?

Response: No.

The reinstatement of the 4-hour completion time within TS 3.3.3 is an administrative correction. It will not affect the operation of structures, systems, or components, and will not reduce programmatic controls such that plant safety would be affected.

No new or different accidents result from the revision to the SR testing frequency note under TS 3.3.6. The change does not involve a physical alteration of the plant (i.e., no new or different type of equipment will be installed) or a change in the methods governing normal plant operation. In addition, this change does not impose any new or different requirements. This change does not alter assumptions made in the safety analysis. This change is consistent with the safety analysis assumptions and current plant operating practice.

Based on the above, the proposed amendment does not create the possibility of a new or different kind of accident from any accident previously evaluated.

3. Does the proposed amendment involve a significant reduction in a margin of safety?

Response: No.

The reinstatement of the 4-hour completion time within TS 3.3.3 is administrative and will not diminish any administrative controls currently in place. The proposed change will not affect the operation of structures, systems, or components, and will not reduce programmatic controls such that plant safety would be affected.

The design, operation, testing methods, and acceptance criteria for systems, structures, and components (SSCs), specified in applicable codes and standards (or alternatives approved for use by the NRC) will continue to be met as described in the plant licensing basis (including the Updated Final Safety Analysis Report and Bases to the TS), since these are not affected by the proposed change which will revise the SR testing frequency note under TS 3.3.6. Similarly, there is no impact to safety analysis acceptance criteria as described in the plant licensing basis.

Based on the above, the proposed amendment does not involve a significant reduction in the margin of safety.

The NRC staff has reviewed the licensee's analysis and, based on this review, it appears that the three standards of 10 CFR 50.92(c) are satisfied. Therefore, the NRC staff proposes to determine that the amendment request involves no significant hazards consideration.

Attorney for licensee: Michael G. Green, Associate General Counsel—Nuclear and Environmental, Pinnacle West Capital Corporation, P.O. Box 52034, Mail Stop 7602, Phoenix, Arizona 85072-2034.

NRC Branch Chief: Michael T. Markley.

Duke Energy Carolinas, LLC, et al., Docket Nos. 50-413 and 50-414, Catawba Nuclear Station, Units 1 and 2, York County, South Carolina

Date of amendment request: September 25, 2013.

Description of amendment request: The amendments requests transition of the fire protection licensing basis at Catawba Nuclear Station, Units 1 and 2 from Title 10 of the Code of Federal Regulations (10 CFR), Section 50.48(b), to 10 CFR 50.48(c), National Fire Protection Association (NFPA) 805.

Basis for proposed no significant hazards consideration determination: As required by 10 CFR 50.91(a), the licensee has provided its analysis of the issue of no significant hazards consideration, which is presented below:

1. Does the proposed amendment involve a significant increase in the probability or consequences of an accident previously evaluated?

Response: No.

Operation of Catawba Nuclear Station in accordance with the proposed amendment does not increase the probability or consequences of accidents previously evaluated. The Updated Final Safety Analysis Report documents the analyses of design basis accidents at Catawba Nuclear Station. The proposed amendment does not adversely affect accident initiators nor alter design assumptions, conditions, or configurations of the facility and does not adversely affect the ability of structures, systems, and components to perform their design function. Structures, systems, and components required to safely shut down the reactor and to maintain it in a safe shutdown condition will remain capable of performing their design functions.

The purpose of this amendment is to permit Catawba Nuclear Station to adopt a new fire protection licensing basis which complies with the requirements in 10 CFR 50.48(a) and (c) and the guidance in Regulatory Guide (RG) 1.205. The NRC considers that NFPA 805 provides an acceptable methodology and performance criteria for licensees to identify Fire Protection system and features that are an acceptable alternative to Catawba Nuclear Station's existing fire protection requirements. Engineering Analyses, in accordance with NFPA 805, have been performed to demonstrate that the risk-informed performance-based requirements for NFPA 805 have been met.

The NFPA 805, taken as a whole, provides an acceptable alternative to 10 CFR 50.48(b) and satisfies 10 CFR 50.48(a) and General Design Criterion 3 of Appendix A to 10 CFR Part 50 and meets the underlying intent of the NRC's existing fire protection regulations and guidance, and achieves defense-in depth and the goals, performance objectives, and performance criteria specified in Chapter 1 of the standard. The small increases in core damage frequency associated with the LAR submittal are consistent with the Commission's Safety Goal Policy. Additionally, 10 CFR 50.48(c) allows self-approval of the fire protection program changes post-transition. If there are any increases post-transition in core damage frequency or risk, the increase will be small and consistent with the intent of the Commission's Safety Goal Policy.

Based on this, the implementation of this amendment does not significantly increase the probability of any accident previously evaluated. Equipment required to mitigate an accident remains capable of performing the assumed function.

Therefore, the consequences of any accident previously evaluated are not significantly increased with the implementation of the amendment.

2. Does the proposed amendment create the possibility of a new or different kind of accident from any accident previously evaluated?

Response: No.

Operation of Catawba Nuclear Station in accordance with the proposed amendment does not create the possibility of a new or different kind of accident from any accident previously evaluated. Any scenario or previously analyzed accident with offsite dose was included in the evaluation of design basis accidents documented in the Updated Final Safety Analysis Report. The proposed change does not alter the requirements or function for systems required during accident conditions. Implementation of the new Fire Protection licensing basis which complies with the requirements in 10 CFR 50.48(a) and (c) and the guidance in RG 1.205 will not result in new or different accidents.

The proposed amendment does not adversely affect accident initiators nor alter design assumptions, conditions, or configurations of the facility. The proposed amendment does not adversely affect the ability of structure, systems, and components to perform their design function. Structure, systems, and components required to safely shut down the reactor and maintain it in a safe shutdown condition remain capable of performing their design functions.

The purpose of this amendment is to permit Catawba Nuclear Station to adopt a new Fire Protection licensing basis which complies with the requirements in 10 CFR 50.48(a) and (c) and the guidance in RG 1.205. The NRC considers that the NFPA 805 provides an acceptable methodology and performance criteria for licensees to identify Fire Protection systems and features that are an acceptable alternative to Catawba Nuclear Station's existing fire protection requirements.

The requirements in the NFPA 805 address only Fire Protection and the impacts of fire on the plant have already been evaluated. Based on this, the implementation of this amendment does not create the possibility of a new or different kind of accident from any kind of accident previously evaluated. The proposed changes do not involve new failure mechanisms or malfunctions that can initiate a new accident.

Therefore, the possibility of a new or different kind of accident from any kind of accident previously evaluated is not created with the implementation of this amendment.

3. Does the proposed amendment involve a significant reduction in a margin of safety?

Response: No.

Operation of Catawba Nuclear Station in accordance with the proposed amendment does not involve a significant reduction in the margin of safety. The proposed amendment does not alter the manner in which safety limits, limiting safety system settings or limiting conditions for operation are determined. The safety analysis acceptance criteria are not affected by this change. The proposed amendment does not adversely affect existing plant safety margins or the reliability of equipment assumed to mitigate accidents in the Updated Final Safety Analysis Report. The proposed amendment does not adversely affect the ability of Structure, Systems, and Components to perform their design function. Structure, Systems, and Components required to safely shut down the reactor and to maintain it in a safe shutdown condition remain capable of performing their design functions.

The purpose of this amendment is to permit Catawba Nuclear Station to adopt a new fire protection licensing basis which complies with the requirements in 10 CFR 50.48(a) and (c) and the guidance in RG 1.205. The NRC considers that the NFPA 805 provides an acceptable methodology and performance criteria for licensees to identify Fire Protection systems and features that are an acceptable alternative to Catawba Nuclear Station's existing fire protection requirements. Engineering analyses, which may include engineering evaluations, probabilistic safety assessments, and fire modeling calculations, have been performed to demonstrate that the performance-based methods do not result in a significant reduction in the margin of safety.

Based on this, the implementation of this amendment does not significantly reduce the margin of safety. The proposed changes are evaluated to ensure that risk and safety margins are kept within acceptable limits. Therefore, the transition does not involve a significant reduction in the margin of safety.

The NFPA 805 continues to protect public health and safety and the common defense and security because the overall approach of the NFPA 805 is consistent with the key principles for evaluating license basis changes, as described in RG 1.174, is consistent with the defense-in-depth philosophy, and maintains sufficient safety margins.

Margins previously established for the Catawba Nuclear Station Fire Protection program in accordance with existing fire protection requirements are not significantly reduced.

Therefore, this amendment does not result in a reduction in a margin of safety.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202.

NRC Branch Chief: Robert J. Pascarelli.

Exelon Generation Company, LLC, Docket Nos. 50-352 and 50-353, Limerick Generating Station, Units 1 and 2, Montgomery County, Pennsylvania

Date of amendment requests: November 15, 2013.

Description of amendment requests: The proposed amendments would revise the Technical Specification requirements related to the response time for the main steam line flow-high isolation function.

Basis for proposed no significant hazards consideration determination: As required by 10 CFR 50.91(a), the licensee has provided its analysis of the issue of no significant hazards consideration, which is presented below:

1. Does the proposed amendment involve a significant increase in the probability or consequences of an accident previously evaluated?

Response: No.

The proposed increase in Main Steam Line (MSL) High Flow Isolation System Instrumentation Response Time from ≤ 0.5 seconds to ≤ 1.0 seconds does not involve a significant increase in the probability or consequences of an accident previously evaluated (i.e., Main Steam Line Break (MSLB)). GE Hitachi Nuclear Energy, using the SAFER04A Engineering Computer Program (SAFER), has performed an analysis of the impact to existing MSLB analysis using 1.0 seconds as the new response time input for the instrument channel high flow trip signal. The analysis concluded that for the worst case conditions, which is the Hot Standby initial operating condition, by increasing the instrument delay for Main Steam Line Isolation Valve (MSIV) actuation from 0.5 seconds to 1.0 seconds, the water mass release is increased by about 12%, the steam mass release is increased by about 8%, and the total coolant mass release increased by about 12% to 115,700 pounds mass (lbm). The major source of coolant activity which contributes to the released dose is contained in the coolant that is initially released in the liquid water phase. The enveloping total coolant mass release for radiological consequence evaluation is 140,000 lbm liquid; therefore, the MSLB total coolant mass release values calculated in this analysis remain bounded and the original MSLB Accident Dose Evaluation remains unchanged.

In regards to Peak Cladding Temperatures (PCT), the MSLB Accident is considered in evaluating a plant's response for fuel integrity and barrier protection to Loss of Coolant Accidents (LOCAs). Specifically, the MSLB Accident breaks either inside containment or outside containment are considered for fuel heat-up and neither scenario is limiting for Peak Cladding Temperature. The MSLB LOCA PCT response is not affected by the proposed amendment.

There are no special events analyses (Anticipated Transient Without Scram (ATWS), Fire Safe Shutdown, or Station Blackout) that consider main steam line breaks.

For building compartments that contain safety related equipment, the proposed increase in the instrument response time does not impact the calculated peak pressures and temperatures that occur at approximately 1.0 seconds since the blowdown flow is not impacted until the MSIVs are assumed to start closing at 5.0 seconds. However, the increase in response time could have an impact on the overall duration of the blowdown. The MSL High Energy Line Break (HELB) Analysis was revised to conservatively assume that the MSIVs remain fully open for 6.0 seconds (5.0 seconds + 1.0 seconds) and the total blowdown duration was increased from 6.5 seconds to 7.0 seconds. The revised HELB analysis confirmed that the critical peak temperatures and pressures did not change in building compartments containing safety related equipment and that the only impact was a less than 4.0-degree Fahrenheit increase in the main condenser area compartment and steam venting plenum compartment peak temperatures. These two compartments do not contain safety-related environmentally qualified equipment. Therefore, this minimal increase in peak temperature has no adverse impact on the plant.

Therefore, the proposed changes do not involve a significant increase in the probability or consequences of an accident previously evaluated.

2. Does the proposed amendment create the possibility of a new or different kind of accident from any accident previously evaluated?

Response: No.

The proposed increase in MSL High Flow Isolation System Instrumentation Response Time from ≤ 0.5 seconds to ≤ 1.0 seconds does not create the possibility of a new or different kind of accident from any accident previously evaluated. The proposed change only affects the primary containment isolation system response time, which is a mitigating system, for which the effects have been specifically evaluated for impact to the MSLB Accident and found to be acceptable. There are no special events analyses (ATWS, Fire Safe Shutdown, or Station Blackout) that consider main steam line breaks. The pressure and temperature of affected compartments do not affect the environmental qualification or performance of safety related equipment.

The instrument channel logic delay time associated with this proposal was not postulated as an initiator of any previously analyzed accident, and is not expected to create any new system interactions, transient precursors, or failure modes of any structures, systems and components (SSCs). Thus, equipment important to safety will continue to operate as designed, and the proposed change will not result in any adverse conditions or any increase in challenges to safety systems.

Therefore, the proposed changes do not create the possibility of a new or different kind of accident from any accident previously evaluated.

3. Does the proposed amendment involve a significant reduction in a margin of safety?

Response: No.

The proposed increase in MSL High Flow Isolation System Instrumentation Response Time from ≤ 0.5 seconds to ≤ 1.0 seconds does not involve a significant reduction in a margin of safety. The proposed change will increase the total calculated total coolant mass release from 108,785 lbm to 115,700 lbm. The change in the total coolant mass release of 6,915 lbm is well within the current available margin (~31,200 lbm) to the 140,000 lbm bounding value used for the radiological consequence evaluation.

Therefore, the proposed changes do not involve a significant reduction in a margin of safety.

The NRC staff has reviewed the licensee's analysis and, based on this review, it appears that the three standards of 10 CFR 50.92(c) are satisfied. Therefore, the NRC staff proposes to determine that the amendment requests involve no significant hazards consideration.

Attorney for licensee: J. Bradley Fewell, Esquire, Associate General Counsel, Exelon Generation Company, LLC, 4300 Winfield Road, Warrenville, IL 60555.

Acting NRC Branch Chief: John G. Lamb.

Exelon Generation Company, LLC, Docket No. 50-219, Oyster Creek Nuclear Generating Station, Ocean County, New Jersey

Date of amendment request: December 12, 2013.

Description of amendment request: The proposed amendment will revise the Oyster Creek Nuclear Generating Station Technical Specifications (TSs). The proposed amendment will adopt TS Task Force (TSTF) Traveler TSTF-522, Revision 0, “Revise Ventilation System Surveillance Requirements to Operate for 10 Hours per Month.”

Basis for proposed no significant hazards consideration determination: As required by 10 CFR 50.91(a), the licensee has provided its analysis of the issue of no significant hazards consideration, which is presented below, along with the NRC's edits in square brackets:

1. Does the proposed change involve a significant increase in the probability or consequences of an accident previously evaluated?

Response: No.

The proposed change replaces an existing SR [surveillance requirement] to operate the Standby Gas Treatment System for a minimum of 10 hours at a frequency controlled in accordance with the SFCP [Surveillance Frequency Control Program] with a requirement to operate the system for a minimum of 15 continuous minutes at a frequency controlled in accordance with the SFCP.

This system is not an accident initiator and therefore, this change does not involve a significant increase in the probability of an accident. The proposed change is consistent with current regulatory guidance for this system and will continue to assure that this system performs its design function which may include mitigating accidents. Thus, the change does not involve a significant increase in the consequences of an accident.

Therefore, it is concluded that this change does not involve a significant increase in the probability or consequences of an accident previously evaluated.

2. Does the proposed change create the possibility of a new or different kind of accident from any previously evaluated?

Response: No.

The proposed change replaces an existing SR to operate the Standby Gas Treatment System for a minimum of 10 hours at a frequency controlled in accordance with the SFCP with a requirement to operate the system for a minimum of 15 continuous minutes at a frequency controlled in accordance with the SFCP.

The change proposed for this ventilation system does not change any system operations or maintenance activities. Testing requirements will be revised and will continue to demonstrate that the Limiting Conditions for Operation are met and the system components are capable of performing their intended safety functions. The change does not create new failure modes or mechanisms and no new accident precursors are generated.

Therefore, it is concluded that this change does not create the possibility of a new or different kind of accident from any accident previously evaluated.

3. Does the proposed change involve a significant reduction in the margin of safety?

Response: No.

The proposed change replaces an existing SR to operate the Standby Gas Treatment System for a minimum of 10 hours at a frequency controlled in accordance with the SFCP with a requirement to operate the system for a minimum of 15 continuous minutes at a frequency controlled in accordance with the SFCP. The proposed change is consistent with regulatory guidance.

Therefore, it is concluded that this change does not involve a significant reduction in a margin of safety.

The NRC staff has reviewed the licensee's analysis and, based on this review, it appears that the three standards of 50.92(c) are satisfied. Therefore, the NRC staff proposes to determine that the amendment requests involve no significant hazards consideration.

Attorney for licensee: Mr. J. Bradley Fewell, Associate General Counsel, Exelon Generation Company, LLC, 4300 Winfield Road, Warrenville, IL 60555.

Acting NRC Branch Chief: John G. Lamb.

Southern Nuclear Operating Company, Inc. Docket Nos. 52-025 and 52-026, Vogtle Electric Generating Plant (VEGP) Units 3 and 4, Burke County, Georgia

Date of amendment request: December 20, 2013.

Description of amendment request: The proposed amendment would revise the VEGP Units 3 and 4 Emergency Plan, in accordance with 10 CFR Part 50, Appendix E, Section 1.5, to comply with the regulatory changes published in the Federal Register on November 23, 2011, (76 FR 72560), “Enhancements to Emergency Preparedness Regulations.” Eleven topics for change were described in the published rule.

In addition, the requested amendment proposes to change License Condition 2.D(12)(d) of the VEGP Units 3 and 4 Combined Licenses to require a detailed staffing analysis to be performed no later than 180 days before initial fuel load.

Basis for proposed no significant hazards consideration determination: As required by 10 CFR 50.91(a), the licensee has provided its analysis of the issue of no significant hazards consideration, which is presented below:

1. Does the proposed amendment involve a significant increase in the probability or consequences of an accident previously evaluated?

Response: No.

The VEGP 3 and 4 Emergency Plan provides assurance that the requirements of emergency preparedness regulations are met. The changes do not affect the design, construction, or operation of the nuclear plant, so there is no change to the probability or consequences of an accident previously evaluated. Adding a license condition related to an emergency preparedness staffing analysis and changing the VEGP 3 and 4 Emergency Plan does not affect prevention and mitigation of abnormal events, e.g., accidents, anticipated operational occurrences, earthquakes, floods and turbine missiles, or their safety or design analyses as the purpose of the plan is to implement emergency preparedness regulations. No safety-related structure, system, component (SSC) or function is adversely affected. The change does not involve nor interface with any SSC accident initiator or initiating sequence of events, and thus, the probabilities of the accidents evaluated in the [Updated Final Safety Analysis Report] UFSAR are not affected. Because the changes do not involve any SSC or function used to mitigate an accident, the consequences of the accidents evaluated in the UFSAR are not affected.

Therefore, the proposed amendment does not involve an increase in the probability or consequences of an accident previously evaluated.

2. Does the proposed amendment create the possibility of a new or different kind of accident from any accident previously evaluated?

Response: No.

The VEGP 3 and 4 Emergency Plan provides assurance that the requirements of emergency preparedness regulations are met. The changes do not affect the design, construction, or operation of the nuclear plant, so there is no new or different kind of accident from any accident previously evaluated. The changes do not affect safety-related equipment, nor do they affect equipment which, if it failed, could initiate an accident or a failure of a fission product barrier. In addition, the changes do not result in a new failure mode, malfunction or sequence of events that could affect safety or safety-related equipment.

Therefore, the proposed amendment does not create the possibility of a new or different kind of accident.

3. Does the proposed amendment involve a significant reduction in a margin of safety?

Response: No.

The VEGP 3 and 4 Emergency Plan provides assurance that the requirements of emergency preparedness regulations are met. The changes do not affect the assessments or the plant itself. The changes do not affect safety-related equipment or equipment whose failure could initiate an accident, nor does it adversely interface with safety-related equipment or fission product barriers. No safety analysis or design basis acceptance limit/criterion is challenged or exceeded by the requested change.

Therefore, the proposed amendment does not reduce the margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Lawrence J. Burkhart.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Duke Energy Carolinas, LLC, Docket Nos. 50-269, 50-270 and 50-287, Oconee Nuclear Station, Units 1, 2 and 3, Oconee County, South Carolina

Date of application of amendments: June 27, 2012, as supplemented by letters dated December 14, 2012, May 28, July 26, November 26, December 6, and December 12, 2013.

Brief description of amendments: The amendments revised Technical Specification (TS) 3.8.1, “AC Sources—Operating,” Required Action C.2.2.5 to allow a temporary one-time Completion Time extension of 62 days to restore an inoperable Keowee Hydro Unit (KHU) for the purpose of performing generator field pole rewind work on each KHU.

Date of Issuance: January 8, 2014.

Effective date: As of the date of issuance and shall be implemented within 30 days from the date of issuance.

Amendment Nos.: 383, 385, and 384.

Renewed Facility Operating License Nos. DPR-38, DPR-47 and DPR-55: Amendments revised the license and the TSs.

Date of initial notice in Federal Register: October 2, 2012 (77 FR 60149). The supplemental letters dated December 14, 2012, May 28, July 26, November 26, December 6, and December 12, 2013, provided additional information that clarified the application, did not expand the scope of the application as originally noticed, and did not change the staff's original proposed no significant hazards consideration determination as published in the Federal Register.

The Commission's related evaluation of the amendments is contained in a Safety Evaluation dated January 8, 2014.

No significant hazards consideration comments received: No.

Tennessee Valley Authority, Docket No. 50-390, Watts Bar Nuclear Plant, Unit 1, Rhea County, Tennessee

Date of application for amendment: November 19, 2012, as supplemented by letter dated September 13, 2013.

Brief description of amendment: The amendment changed the Technical Specification 3.7.10 to require a unit shutdown within the TS 3.7.10 Actions instead of entering Limiting Condition for Operation 3.0.3 when both Control Room Emergency Ventilation System (CREVS) trains are inoperable in MODE 1, 2, 3, or 4 due to actions taken as a result of a tornado warning and the Completion Time of 8 hours for restoration of at least one CREVS train to OPERABLE status is not met.

Date of issuance: January 14, 2014.

Effective date: As of the date of issuance and shall be implemented no later than 60 days from date of issuance.

Amendment No.: 94.

Facility Operating License No. NPF-90: Amendment revised the License and TSs.

Date of initial notice in Federal Register: March 19, 2013 (78 FR 16886). The supplement letter dated September 13, 2013, provided additional information that clarified the application, did not expand the scope of the application as originally noticed, and did not change the staff's original proposed no significant hazards consideration determination as published in the Federal Register.

The Commission's related evaluation of the amendment is contained in a Safety Evaluation dated January 14, 2014.

No significant hazards consideration comments received: None.

Union Electric Company, Docket No. 50-483, Callaway Plant, Unit 1, Callaway County, Missouri

Date of application for amendment: August 29, 2011, as supplemented by letters dated November 9, 2011, April 17 and July 12, 2012, and February 19, August 5, September 24, and December 19, 2013.

Brief description of amendment: The amendment transitions the Callaway Plant fire protection program to a risk-informed, performance-based program based on the National Fire Protection Association (NFPA) 805, in accordance with 10 CFR 50.48(c). The NFPA 805 allows the use of performance-based methods such as fire modeling and risk-informed methods such as fire probabilistic risk assessment to demonstrate compliance with the nuclear safety performance criteria.

Date of issuance: January 13, 2014.

Effective date: As of its date of issuance and shall be implemented by 8 months from the date of issuance.

Amendment No.: 206.

Facility Operating License No. NPF-30: The amendment revised the Operating License and Technical Specifications.

Date of initial notice in Federal Register :February 14, 2012 (77 FR 8294). The supplements dated November 9, 2011, April 17 and July 12, 2012, and February 19, August 5, September 24, and December 19, 2013, provided additional information that clarified the application, did not expand the scope of the application as originally noticed, and did not change the staff's original proposed no significant hazards consideration determination as published in the Federal Register.

The Commission's related evaluation of the amendment is contained in a Safety Evaluation dated January 13, 2014.

No significant hazards consideration comments received: No.

Union Electric Company, Docket No. 50-483, Callaway Plant, Unit 1, Callaway County, Missouri

Date of application for amendment: December 20, 2012, as supplemented by letters dated June 6 and August 29, 2013.

Brief description of amendment: The amendment revised a methodology in the licensing basis as described in the Final Safety Analysis Report—Standard Plant to include damping values for the seismic design and analysis of the integrated head assembly that are consistent with the recommendations of the NRC's Regulatory Guide 1.61, “Damping Values for Seismic Design of Nuclear Power Plants,” Revision 1, March 2007.

Date of issuance: January 14, 2014.

Effective date: As of its date of issuance and shall be implemented within 90 days from the date of issuance.

Amendment No.: 207.

Facility Operating License No. NPF-30: The amendment revised the Operating License.

Date of initial notice in Federal Register: March 4, 2013 (78 FR 14139). The supplemental letters dated June 6 and August 29, 2013, provided additional information that clarified the application, did not expand the scope of the application as originally noticed, and did not change the staff's original proposed no significant hazards consideration determination as published in the Federal Register.

The Commission's related evaluation of the amendment is contained in a Safety Evaluation dated January 14, 2014.

No significant hazards consideration comments received: No.

Dated at Rockville, Maryland, this 24th day of January 2014.
For the Nuclear Regulatory Commission.
Michele G. Evans,
Director, Division of Operating Reactor Licensing, Office of Nuclear Reactor Regulation.

[FR Doc. 2014-02048 Filed 2-3-14; 8:45 am]

BILLING CODE 7590-01-P